DEPARTMENT OF AGRICULTURE

Food Safety and Inspection Service

[Docket No. 00-031N]

National Conference on Animal Production Food Safety

AGENCY: Food Safety and Inspection Service, USDA.

ACTION: Notice of meeting.

SUMMARY: The Food Safety and Inspection Service (FSIS) is cosponsoring, with the USDA's Agriculture Research Service, the Animal Plant Health Inspection Service, the Cooperative State Research, Education and Extension Service, the Agriculture Marketing Service and the Food and Drug Administration's Center for Veterinary Medicine and Center for Food Safety and Applied Nutrition, a National Conference on Animal Production Food Safety. The meeting will be held in St. Louis, Missouri on September 6-7, 2000. The purpose of the conference will be to review the status of food safety at the food animal production level, to provide an update on industry quality assurance activities, and to review ongoing research in support of animal production food safety practices.

DATES: The meeting will be held September 6-7, 2000.

ADDRESSES: The meeting will be held at the Hyatt Regency St. Louis, One St. Louis Union Station, St. Louis, MO, (314) 231-1234 or (800) 233-1234. On September 6, the meeting time will be 8 a.m. to 5 p.m. On September 7, the meeting time will be 8 a.m. to 3:30 p.m. Submit one original and two copies of written comments to: FSIS Docket Room, Docket #00-031N, Room 102 Cotton Annex Building, 300 12th Street, SW, Washington, DC 20250-3700. All comments received in response to this notice will be considered part of the public record and will be available for viewing in the FSIS Docket Room between 8:30 a.m. and 4:30 p.m., Monday through Friday.

FOR FURTHER INFORMATION CONTACT: To register for the meeting, contact Debi Seymour, Federation of Animal Science Societies, (217) 356-3182 in Savoy, IL. If you require a sign language interpreter or other special accommodations, please notify Ms. Seymour 7 days before the meeting. For technical information contact Mr. Dan Vitiello, Animal Production Food Safety Staff, FSIS, by Telephone (202) 690-2676, FAX (202) 720-8213, or e-mail dan.vitiello@usda.gov.

SUPPLEMENTARY INFORMATION:

Background

The Administration's Draft Preliminary Food Safety Strategic Plan (available on www.foodsafety.gov), states that the foundation of any food safety system includes the articulation and implementation of a unified research agenda to provide the scientific knowledge needed for prevention, monitoring, surveillance, inspection, regulation, and education programs. It also suggests that there are a number of challenges to improving the scientific basis of the food safety system. For example, it states that gaps exist in our knowledge of microbial pathogens and in our ability to measure their impact on human health. It also notes that the limited knowledge about microbial contamination hampers efforts to develop on-farm preventative controls and systems of testing.

The National Conference will review the current status of food safety at the food animal production level, provide an update on industry quality assurance activities, and review ongoing research in support of animal production food safety practices. The National Conference will provide an opportunity for discussion of (1) gaps in research to address food safety at the animal production level and (2) what additional educational efforts are needed to improve food safety at the animal production level.

Participation in the conference will be limited to available seating (approximately 250 people). The target audience for the conference includes representatives from food safety regulatory agencies, producers, animal producer organizations, veterinarians, animal scientists, agricultural educators, extension agents, researchers, consumers, and others with interest in food safety.

Additional Public Notification

Public awareness of all segments of rulemaking and policy development is important. Consequently, in an effort to better ensure that minorities, women, and persons with disabilities are aware of this notice, FSIS will announce it and provide copies of this Federal Register publication in the FSIS Constituent Update. FSIS provides a weekly FSIS Constituent Update, which is communicated via fax to over 300 organizations and individuals. In addition, the update is available on-line through the FSIS web page located at http://www.fsis.usda.gov. The update is used to provide information regarding FSIS policies, procedures, regulations, Federal Register notices, FSIS public meetings, recalls, and any other types of information that could affect or would be of interest to our constituents/stakeholders. The constituent fax list consists of industry, trade, and farm groups, consumer interest groups, allied health professionals, scientific professionals, and other individuals that have requested to be included. Through these various channels, FSIS is able to provide information to a much broader, more diverse audience. For more information and to be added to the constituent fax list, fax your request to the Congressional and Public Affairs Office, at (202) 720-5704.

Done at Washington, DC on: August 14, 2000.
Thomas J. Billy,
Administrator.

[FR Doc. 00-20974 Filed 8-16-00; 8:45 am]

BILLING CODE 3410-DM-P